DEPARTMENT OF COMMERCE

National Institute of Standards and Technology

Weights and Measures Annual Meeting

AGENCY: National Institute of Standards and Technology, Commerce.

ACTION: Announcement of public meeting of the 89th Annual Meeting of the National Conference on Weights and Measures.

SUMMARY: Notice is hereby given that the annual meeting of the National Conference on Weights and Measures will be held July 11 through July 15, 2004, at the Hilton Pittsburgh & Towers Hotel, Pittsburgh, PA. This meeting is open to the public. Meeting registration and hotel information can be found on the NCWM Web site (http://www.ncwm.net).

The National Conference on Weights and Measures is an organization of weights and measures enforcement officials of the states, counties, and cities of the United States, and private sector representatives. The annual meeting of the Conference brings together enforcement officials, other government officials, and representatives of business, industry, trade associations, and consumer organizations to discuss subjects that related to the field of weights and measures technology and administration. Pursuant to (15 U.S.C. 272(b)(6)), the National Institute of Standards and Technology supports the National Conference on Weights and Measures in order to promote uniformity among the States in the complexity of laws, regulations, methods, and testing equipment that comprises regulatory control by the states of commercial weighing and measuring.

DATES: July 11-15, 2004.

ADDRESSES: Conference will be held at Hilton Pittsburgh & Towers Hotel, 600 Commonwealth Place, Gateway Center, Pittsburgh, PA. Written comments may be submitted to the Chief, NIST Weights and Measures Division, 100 Bureau Drive, Stop 2600, Gaithersburg, MD 20899-2600, or via e-mail at owm@nist.gov.

FOR FURTHER INFORMATION CONTACT: Henry V. Oppermann, Chief, NIST, Weights and Measures Division, 100 Bureau Drive, Stop 2600, Gaithersburg, MD 20899-2600. Telephone (301) 975-4004, or e-mail: owm@nist.gov.

SUPPLEMENTARY INFORMATION: The National Conference on Weights and Measures (NCWM) has the following topics scheduled for discussion and vote at the Annual Meeting in July. The NCWM Committees may modify their recommendations at the meeting or remove items from voting status based upon comments that are received prior to and during the NCWM Annual Meeting. Additional items will be discussed at the meeting, but are not scheduled for a vote this year. Please see NCWM Publication 16, which is available on the NIST Web site (http://www.nist.gov/owm) and the NCWM Web site (http://www.ncwm.net) for additional information. The following provides a brief description of the voting items. The NCWM Specifications and Tolerances Committee addresses possible changes or additions to NIST Handbook 44, “Specifications, Tolerances, and other Technical Requirements for Weighing and Measuring Devices.” The items address commercial weighing and measuring devices that may be used in commercial measurement applications, that is, devices that are normally used to buy from or sell to the general public or used for determining the quantity of product sold among businesses. Issues on the agenda of the NCWM Laws and Regulations Committee relate to NIST Handbook 130, “Uniform Laws and Regulations in the area of legal metrology and engine fuel quality,” and NIST Handbook 133, “Checking the Net Contents of Packaged Goods.”

NCWM Specifications and Tolerances Committee

General Code

Item 310-1: This issue addresses the acceptable methods of marking the manufacturer's name, device model number, serial numbers, and other required markings on electronic instruments. The acceptable methods under consideration are permanent markings on the exterior of the device or displaying the information on the display screen of the monitor for a measuring instrument.

Scales Code

Item 320-1: This issue addresses the conditions under which manual weight entries will be permitted when using commercial scales.

Item 320-3: Clarify that the words “Section Capacity” may be abbreviated when marked on scales for which the marking of the section capacity is required. Acceptable abbreviations for “section capacity” are specified.

Item 320-4: Add a statement that weight carts that have mass values accurate within one-third of the tolerance to be applied to the scale under test may be used in the test of the scale.

Item 320-5: The proposal is to clarify that the discrimination test conducted on scales that automatically indicate the applied loads may be tested near zero and near the maximum test load.

Item 320-6: Clarify the requirement that the minimum number of scale divisions for a Class III hopper scale used to weigh grain is 2000 scale divisions.

Belt-Conveyor Scales Code

Item 321-1: Modify the range of indicated flow rates for a belt conveyor scale to be from 20% to 100% rather than from 35% to 98% to align the requirement with International Organization of Legal Metrology (OIML) Recommendation 50 for belt-conveyor scales.

Item 321-2: Modify the test requirements for belt-conveyor scales to require that they be tested over the range of flow rates at which it may be used, rather than at only one flow rate near its used capacity.

Item 321-3: Modify the statement of how zero stability of a belt-conveyor scale is expressed and establish a tolerance for the stability of zero on a belt-conveyor scale.

Item 321-4: Clarify the limits for the required uniformity of the weight (i.e., the consistency of the weight) of the belt on a belt-conveyor scale.

Item 321-5: Modify (reduce) the tolerance for the temperature effect on the zero-load indication to be consistent with the latest version of International Organization of Legal Metrology Recommendation 50 for belt-conveyor scales.

Item 321-6: Modify a requirement for the users of belt-conveyor scales that the weighing section of a belt-conveyor scale, and any guards associated with the scale, have adequate clearances to prevent accidental interference with the weighing operation.

Item 321-7: Add a requirement for the users of belt-conveyor scales stating that any material that has been weighed shall not be returned to the weighing area and weighed again to prevent the re-circulation of previously weighed material.

Automatic Weighing Systems Code—Tentative Code

Item 324-1: The Automatic Weighing Systems Code has been a tentative code since 1996. The code applies to scales that are weigh-labelers (both static and dynamic weighing) and automatic checkweighers. The proposal is to change the status of the Automatic Weighing Systems Code to a permanent code.

Liquid-Measuring Devices Code

Item 330-1: To facilitate the reinspection of a meter that has been adjusted, add a requirement for devices that have multiple measuring elements, typically for those measuring elements in retail motor fuel dispensers, to have a way to clearly indicate which of the measuring elements was adjusted. One of several acceptable methods may be used.

Item 330-2: Modify and clarify the acceptable locations for placing the required identification information on retail motor-fuel devices.

Item 330-5: Modify the definition of a retail device to clarify which devices are classified as retail devices rather than as wholesale devices, since some requirements are different for retail and wholesale devices.

Vehicle-Tank Meters Code

Item 331-1: A number of states or local weights and measures jurisdictions permit the use of temperature compensation on vehicle-tank meters used to deliver refined petroleum products (e.g., gasoline, fuel oil, and diesel fuel). Currently, the Vehicle-Tank Meter (VTM) Code does not have any requirements for these metering systems. The proposal is to add a series of requirements to apply to these systems when meters are equipped with temperature compensation capability. The requirements include specifications for the metering system, instructions for testing these systems, tolerances for the systems, and requirements for the users of these systems. These proposed changes would apply to temperature compensating systems when they are present on VTMs and are consistent with the requirements for temperature compensation in other device codes in Handbook 44. The requirements do not mandate the use of temperature compensation on VTMs.

LPG and Anhydrous Ammonia Liquid-Measuring Devices Code

Item 332-1: Modify the requirement for users of liquefied petroleum meters to clearly indicate that a vapor-return line may be used on trucks and metering systems for wholesale terminal deliveries of liquefied petroleum.

Multiple Dimension Measuring Devices Code—Tentative Code

Item 358-1: These systems are used to determine the weight, dimensions, or volumes of objects for the purpose of calculating freight, storage, or postal charges. To clarify the requirements that must be met by the manufacturers and the users of these devices, the current single table is being divided into two tables. One table contains the requirements applicable to manufacturers and the second contains the requirements applicable to users of the devices.

Item 358-2: Modify how the dimensions are expressed for dimensions above the maximum dimensions that can be measured by the devices.

Item 358-3: Clarify the type of device considered to have two or more measuring elements and define the measurement field for these devices.

Item 358-4: Add guidance regarding the types of objects that may be used to test multiple dimension measuring devices. The accuracy required for the test objects is also specified.

Item 358-5: Clarify the language for how the tolerance for the devices is stated.

Item 358-6: Clarify the parameters for alternating and direct current power supplies over which the devices are required to perform correctly and within tolerance.

Item 358-7: The Multiple Dimension Measuring Devices Code has been a tentative code since 1996. The proposal is to change the status of the Code to a permanent code.

NCWM Laws and Regulations Committee

Item 236-1: Amend the Uniform National Type Evaluation Regulation to recognize the current practice to perform type evaluation of main elements of commercial weighing and measuring devices separately and allow these evaluated main elements to be connected (“mixed and matched”) with other main elements that have been evaluated and found to meet the applicable requirements.

Item 237-2: Amend the uniform “Engine Fuels, Petroleum Products, and Automotive Lubricants Regulation” to include automatic transmission fluid, gear oil, and lubricating oil, and add relevant labeling requirements to this uniform (model) regulation.

Item 237-3: Amend the uniform “Engine Fuels, Petroleum Products, and Automotive Lubricants Regulation” to include requirements for biodiesel products entering the marketplace.

Dated: June 18, 2004.
Hratch G. Semerjian,
Acting Director.

[FR Doc. 04-14615 Filed 6-25-04; 8:45 am]

BILLING CODE 3510-03-P